DEPARTMENT OF COMMERCE

International Trade Administration

[A-583-803]

Light-Walled Welded Rectangular Carbon Steel Tubing From Taiwan: Final Results of the Expedited Sunset Review of the Antidumping Duty Order

AGENCY: Enforcement and Compliance, International Trade Administration, Department of Commerce.

SUMMARY: As a result of this expedited sunset review, the U.S. Department of Commerce (Commerce) finds that revocation of the antidumping duty (AD) order on light-walled welded rectangular carbon steel tubing (LWR tubing) from Taiwan would be likely to lead to continuation or recurrence of dumping at the level indicated in the “Final Results of Sunset Review” section of this notice.

DATES: Applicable October 25, 2022.

FOR FURTHER INFORMATION CONTACT: Claudia Cott, AD/CVD Operations, Office I, Enforcement and Compliance, International Trade Administration, U.S. Department of Commerce, 1401 Constitution Avenue NW, Washington, DC 20230; telephone: (202) 482-4270.

SUPPLEMENTARY INFORMATION:

Background

On March 27, 1989, Commerce published its AD order on LWR tubing from Taiwan.¹ On August 9, 2017, Commerce published the most recent continuation notice of the Order.² On July 1, 2022, Commerce published the notice of initiation of the five-year sunset review of the Order pursuant to section 751(c) of the Tariff Act of 1930, as amended (the Act).³ In accordance with 19 CFR 351.218(d)(1)(i) and (ii), Commerce received notices of intent to participate in this sunset review from the domestic interested parties ⁴ within 15 days after the date of publication of the Initiation Notice.⁵ The domestic interested parties claimed interested party status under section 771(9)(C) of the Act as producers of a domestic like product in the United States.⁶

¹ See Antidumping Duty Order; Light-Walled Welded Rectangular Carbon Steel Tubing from Taiwan, 54 FR 12467 (March 27, 1989) (Order).

² See Light-Walled Welded Rectangular Carbon Steel Tubing from Taiwan: Continuation of Antidumping Duty Order, 82 FR 37193 (August 9, 2017).

³ See Initiation of Five-Year (Sunset) Reviews, 87 FR 39459 (July 1, 2022) (Initiation Notice).

⁴ There are six domestic interested producers of LWR tubing: Atlas Tube (a division of Zekelman Industries); Bull Moose Tube Company (Bull Moose); California Steel and Tube; Maruichi American Corporation (Maruichi); Nucor Tubular Products, Inc. (Nucor Tubular); and Searing Industries, Inc. (Searing) (hereinafter referred to as domestic interested parties).

⁵ See Atlas Tube, Bull Moose, California Steel and Tube, Maruichi and Searing's Letter, “Fifth Five-Year Review of the Antidumping Duty Order on Light-Walled Rectangular Welded Carbon Steel Pipe and Tube from Taiwan: Notice of Intent to Participate,” dated July 15, 2022; see also Nucor Tubular's Letter, “Light-Walled Rectangular Welded Carbon Steel Pipe and Tube from Taiwan: Notice of Intent to Participate in Sunset Review,” dated July 18, 2022.

⁶ Id.

Commerce received an adequate joint substantive response to the Initiation Notice from domestic interested parties within the 30-day period specified in 19 CFR 351.218(d)(3)(i).⁷ Commerce received no substantive responses from any other interested parties. On August 23, 2022, Commerce notified the U.S. International Trade Commission (ITC) that it did not receive an adequate substantive response from other interested parties.⁸ As a result, in accordance with section 751(c)(3)(B) of the Act and 19 CFR 351.218(e)(1)(ii)(C)(2), Commerce conducted an expedited, i.e., 120-day sunset review of the Order.

⁷ See Domestic Interested Parties' Letter, “Light-Walled Rectangular Welded Carbon Steel Pipe and Tube from Taiwan: Substantive Response to Notice of Initiation,” dated August 1, 2022 (Domestic Interested Parties' Substantive Response).

⁸ See Commerce's Letter, “Sunset Reviews for July 1, 2022,” dated August 23, 2022.

Scope of the Order

The products covered by the order are LWR tubing of rectangular (including square) cross-section, having a wall thickness of less than 0.156 inch. This merchandise is classified under subheading 7306.61.5000 of the Harmonized Tariff Schedule of the United States (HTSUS). It was formerly classified under HTSUS subheading 7306.60.5000. The HTSUS subheadings are provided for convenience and customs purposes only. The written product description remains dispositive. A full description of the scope of the Order is contained in the Issues and Decision Memorandum.⁹

⁹ See Memorandum, “Issues and Decision Memorandum for the Final Results of the Expedited Sunset Review of the Antidumping Duty Order on Light-Walled Welded Rectangular Carbon Steel Tubing from Taiwan,” dated concurrently with, and hereby adopted by, this notice (Issues and Decision Memorandum).

Analysis of Comments Received

All issues raised in this sunset review are addressed in the Issues and Decision Memorandum. A list of topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c) and 752(c) of the Act, Commerce determines that revocation of the Order would be likely to lead to continuation or recurrence of dumping and that the magnitude of the margin of dumping likely to prevail would be at a rate up to 40.97 percent.

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

Commerce is issuing and publishing the final results and notice in accordance with sections 751(c), 752(c), and 777(i)(1) of the Act, and 19 CFR 351.221(c)(5)(ii).

Dated: October 20, 2022.
Lisa W. Wang,
Assistant Secretary, for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of Margin of Dumping Likely To Prevail

VII. Final Results of Expedited Sunset Review

VIII. Recommendation

[FR Doc. 2022-23218 Filed 10-24-22; 8:45 am]

BILLING CODE 3510-DS-P